DEPARTMENT OF ENERGY

Federal Energy Regulatory Commission

[Docket No. CP13-193-000]

Aguirre Offshore GasPort, LLC; Notice of Availability of the Draft Environmental Impact Statement for the Proposed Aguirre Offshore Gasport Project

The staff of the Federal Energy Regulatory Commission (FERC or Commission) has prepared a draft environmental impact statement (EIS) for the Aguirre Offshore GasPort Project (Project), proposed by Aguirre Offshore GasPort, LLC (Aguirre LLC), a wholly owned subsidiary of Excelerate Energy, LP in the above-referenced docket. Aguirre LLC is seeking authorization from the FERC to develop, construct, and operate a liquefied natural gas (LNG) import terminal off the southern coast of Puerto Rico.

The draft EIS assesses the potential environmental effects of the construction and operation of the Aguirre Offshore GasPort Project in accordance with the requirements of the National Environmental Policy Act (NEPA). The FERC staff concludes that approval of the proposed Project, with the mitigation measures recommended in the EIS, would ensure that impacts in the Project area would be avoided or minimized and would not be significant. Construction and operation of the Project would result in mostly temporary and short-term environmental impacts; however, some long-term and permanent environmental impacts would occur.

The U.S. Environmental Protection Agency (EPA), U.S. Army Corps of Engineers, U.S. Coast Guard, Puerto Rico Permits Management Office, Puerto Rico Environmental Quality Board, Puerto Rico Planning Board, Puerto Rico Department of Natural and Environmental Resources, and Puerto Rico Department of Health participated as cooperating agencies in the preparation of the EIS. Cooperating agencies have jurisdiction by law or special expertise with respect to resources potentially affected by the proposal, and participate in the NEPA analysis. In addition, other federal, state, and local agencies may use this EIS in approving or issuing permits for all or part of the proposed Project. Although the cooperating agencies provided input to the conclusions and recommendations presented in the draft EIS, the agencies will present their own conclusions and recommendations in their respective Records of Decision for the Project.

The Project is being developed in cooperation with the Puerto Rico Electric Power Authority (PREPA) for the purpose of receiving, storing, and regasifying the LNG to be acquired by PREPA; and delivering natural gas to PREPA's existing Aguirre Power Complex (Aguirre Plant) in Salinas, Puerto Rico. The Project will help diversify Puerto Rico's energy sources, allow the Aguirre Plant to meet the EPA's Mercury and Air Toxics Standard rule, reduce fuel oil barge traffic in Jobos Bay, and contribute to price stabilization for power in the region. The draft EIS addresses the potential environmental effects of the construction and operation of the following Project facilities:

• An offshore berthing platform;

• an offshore marine LNG receiving facility;

• a Floating Storage and Regasification Unit moored at the offshore berthing platform; and

• a 4.1-mile-long (6.6 kilometer) subsea pipeline connecting the Offshore GasPort to the Aguirre Plant.

The FERC staff mailed copies of the draft EIS to federal, state, and local government representatives and agencies; elected officials; environmental and public interest groups; other interested individuals and groups; newspapers and libraries in the Project area; and parties to this proceeding. The draft EIS was also translated in Spanish. Paper copy versions of this EIS, in English or Spanish, were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

If you would like a hard copy of the draft EIS, please contact the Public Reference Room.

Any person wishing to comment on the draft EIS may do so. To ensure consideration of your comments on the proposal in the final EIS, it is important that the Commission receive your comments before September 29, 2014.

For your convenience, there are four methods you can use to submit your comments to the Commission. In all instances, please reference the Project docket numbers (CP13-193-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend the public comment meeting its staff will conduct in the Project area to receive comments on the draft EIS. The Puerto Rico Permits Management Office will jointly conduct this meeting. We encourage interested groups and individuals to attend and present oral comments on the draft EIS. Transcripts of the meetings will be available for review in eLibrary under the Project docket numbers. The meetings will begin at 4:00 p.m. and are scheduled as follows:

Date | Location
September 9, 2014 | Lions Club, Avenida Los Veteranos, (Entrance by Pizza Hut), Guayama, 787-864-1925.
September 10, 2014 | Marina de Salinas, P.R. 701 (end) Playa Ward, Salinas, 787-824-3185.

Any person seeking to become a party to the proceeding must file a motion to intervene pursuant to Rule 214 of the Commission's Rules of Practice and Procedures (18 CFR 385.214).¹ Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

¹ See the previous discussion on the methods for filing comments.

Questions?

Additional information about the Project is available from the Commission's Office of External Affairs, at (866) 208-FERC, or on the FERC Web site (www.ferc.gov) using the eLibrary link. Click on the eLibrary link, click on “General Search,” and enter the docket number excluding the last three digits in the Docket Number field (i.e., CP13-193). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: August 7, 2014.
Kimberly D. Bose,
Secretary.

[FR Doc. 2014-19300 Filed 8-14-14; 8:45 am]

BILLING CODE 6717-01-P